SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested members of the public an additional 30 days to provide comments on the proposed collection of information.

DATES: Submit comments on or before October 2, 2025.

ADDRESSES: Written comments and recommendations for this information collection request should be sent within 30 days of publication of this notice to www.reginfo.gov/public/do/PRAMain. Find this particular information collection request by selecting “Small Business Administration”; “Currently Under Review”. This information collection can be identified by title and/or OMB Control Number.

FOR FURTHER INFORMATION CONTACT: You may obtain a copy of the information collection and supporting documents from the Agency Clearance Office at records@sba.gov, or Bethany Shana in OCRM Bethany.shana@SBA.gov (202) 205-6402, or from www.reginfo.gov/public/do/PRAMain.

SUPPLEMENTARY INFORMATION: SBA's Office of Credit Risk Management (OCRM) is responsible for the oversight and supervision of the SBA operations of over 3100 7(a) Lenders, Certified Development Companies (“CDCs”), and Microloan Intermediaries (“Intermediaries”) that participate in SBA's business loan programs and is responsible for enforcement of the applicable rules and regulations. Currently, the Agency guarantees more than $110 billion dollars in small business loans through these programs.¹ The information collection described in detail below helps OCRM protect the safety and soundness of the business loan programs and taxpayer dollars.

¹ These numbers do not include over 5,000 lenders that participated in the Paycheck Protection Program (PPP) that issued approximately 11.8 million guaranteed, forgivable loans for $800 billion.

In general, SBA collects information in connection with reviews for Federally-regulated 7(a) Lenders, CDCs, SBA Supervised Lenders including Small Business Lending Companies (SBLCs) and Non-Federally Regulated Lenders (NFRLs), and Intermediaries.² The discussion below identifies the nature of the information to be collected for each type of lender and the related review or examination. In addition, SBA has created separate lists, which are also discussed below, to clearly identify the information to be collected.

² SBLCs and NFRLs are defined in 15 U.S.C. 632(r) and 13 CFR 120.10.

I. 7(a) Lender Diagnostic, Limited Scope, Limited Scope (Targeted) Reviews; CDC SMART Analytical and Full Reviews; and Supervised Lender Safety and Soundness Exams

A. Common Information Collected

For all reviews, and Safety and Soundness examinations ³ of 7(a) Lenders and CDCs, as applicable, in general, SBA requests information related to the 7(a) Lender's or CDC's management and operation, eligibility of its SBA loans for SBA guaranty, compliance with SBA Loan Program Requirements, credit administration, and performance of its SBA loan portfolio.

³ Safety and Soundness Examinations are only performed on SBA Supervised Lenders in the 7(a) program. SBA Supervised Lenders include SBA licensed Small Business Lending Companies and Non-Federally Regulated Lenders as defined in 13 CFR 120.10. Analytical Reviews and Full Reviews are performed on 7(a) Lenders (including SBA Supervised Lenders) and CDCs.

1. Management and Operations: The information requested generally includes the SBA program organization chart with responsibilities, business plan, financial and program audits, evidence of Lender compliance with regulatory orders and agreements (if applicable and as appropriate), and staff training on SBA lending.

2. Eligibility and Credit Administration: In reviewing these areas, SBA may request the Lender's or CDC's credit policies and procedures; servicing policies and procedures; loan sample files; independent loan reviews; underwriting, loan credit scoring, risk rating methodologies; and information on loans approved as exceptions to policy.

3. Compliance with Loan Program Requirements: Here, SBA generally collects information on services and fees charged for Lenders' third-party vendors,⁴ Lender's FTA ⁵ trust account, and Lender's use of the System for Awards Management to perform Agent due diligence. For CDCs, SBA collects additional information related to Loan Program Requirements as described below in Section I.C.

⁴ For purposes of this notice, Third-party vendors include, for example, certain Agents (e.g., Packagers and Lender Service Providers) and Professional Managers with management contracts.

⁵ FTA refers to SBA's Fiscal and Transfer Agent. 7(a) Lenders that sell SBA loans in the Secondary Market are required by the terms of the Form 1086, Secondary Participation Guaranty Agreement, to deposit the guaranteed portion of loan payments in a segregated account for the benefit of investors.

4. Portfolio Performance: In considering Lender or CDC portfolio performance, SBA may request that lenders provide a listing of loans indicating those past due, those with servicing actions, individual risk ratings, and those in liquidation or purchased for SBA to compare with SBA data. SBA may also request that lenders provide an explanation for risks identified (e.g., identified by higher risk metrics or PARRiS flags triggered).

Further detail on the information SBA collects in reviews, and Safety and Soundness Exams is contained in the SBA Supervised Lender Safety and Soundness Examination/Full Review Information Request; 7(a) Lender Risk-Based Review Information Request; CDC SMART Analytical Review Information Request and CDC SMART Full Review Information Request. Each Information Request document is available upon request.

B. SBA Supervised Lender Supplemental Information for Safety and Soundness Exams

SBA is the primary Federal regulator for SBA licensed SBLCs and NFRLs that participate in the 7(a) program.⁶ Because SBA is the primary Federal regulator, SBA may perform comprehensive exams that require information in addition to that referenced in Section I.A. Specifically, for SBA Supervised Lender examinations, SBA additionally documents and information on the Lender's financial condition, internal controls, and risk mitigation. SBA also requests information on higher risk loans, payments related to loans in loan sample, fidelity insurance, credit scoring model validation and lender self-testing for compliance with SBA Loan Program Requirements. SBA Supervised Lender safety and soundness examinations include review of capital, earnings, and liquidity in accordance with 13 CFR 120.1050(b) and accordingly, SBA requests information on the lender's financing, asset account calculations, and dividend policy. Further detail on the information that SBA requests for SBA Supervised Lender examinations is contained in SBA Supervised Lender Safety and Soundness Examination/Full Review Information Request (Form 2513). This document is available upon request.

⁶ SBA Supervised Lenders are a relatively small subset of 7(a) Lenders. 7(a) Lenders include SBA Supervised Lenders and 7(a) Lenders with a Federal Financial Institution Regulator as defined by 13 CFR 120.10 (i.e., lenders regulated by the Federal Deposit Insurance Corporation, the Office of the Comptroller of the Currency, the Federal Reserve Board, the National Credit Union Administration, and/or the Farm Credit Administration).

C. CDC Supplemental Information

SBA is also the primary Federal regulator for CDCs. SBA guarantees 100% of 504 program debentures. Therefore, SBA also requests additional information to prudently oversee CDCs, as it does for SBA Supervised Lenders. The additional information generally requested includes corporate governance documents and information on Lenders' financial condition, internal controls and risk mitigation practices, and the CDC's plan for investment in other local economic development. In addition, SBA requests, as applicable, information on a CDC's Premier Certified Lenders Program (PCLP) Loan Loss Reserve Account and loans that a CDC packages for other 7(a) lenders. You may request a copy of the CDC SMART Analytical Review Information Request (Form 2512) and CDC SMART Full Review Information Request (SBA Form 2508) for more details on this supplemental information request.

II. 7(a) Lender and CDC Delegated Authority Reviews

SBA collects information for Delegated Authority Reviews performed, in general, every two years for lenders applying or reapplying to SBA's Delegated Authority Programs. Delegated Authority programs include for example; the Preferred Lender Program (PLP) for 7(a) Lenders and Accredited Lender Program (ALP) or PCLP for CDCs.⁷ If a lender is scheduled to receive a review or a Safety and Soundness Examination during the same review cycle as a Delegated Authority Review, generally SBA will coordinate the timing of the reviews and the related information collections to lessen the burden.

⁷ Through SBA's Delegated Authority programs, qualified lenders may process SBA loans with further autonomy and reduced paperwork than through regular SBA loan processing.

III. Microloan Intermediary Reviews

For Microloan Program Intermediary oversight, SBA District Offices perform an annual site visit for active Intermediaries. SBA requests information, for example, on SBA program management and operations responsibilities, Board of Directors, contact information. SBA primarily reviews the Intermediary's credit administration through a loan sample file request. Specifics on the information collected are contained in SBA's Microloan Intermediary Site Visit/Review Information Request document, a copy of which is available. In addition, SBA may conduct a more in-depth review of performance and compliance. New forms have been made and are being processed in this package.

IV. Other Reviews, Corrective Action Plans, and Increased Supervision for 7(a) Lenders, CDCs, and Intermediaries

SBA may pose additional information requests for its Other Reviews ⁸, generally of higher risk lenders. For example, for 7(a) Lenders under a public regulatory order or agreement, SBA may request information relating to the status of the underlying deficiencies, as appropriate, or request loan files for SBA to review to mitigate risk before the loan can be sold into the secondary market. SBA may also conduct reviews of higher risk lenders that utilize Lender Service Providers or Loan Agents requesting information for example on fees, service agreements, and activities performed. SBA may also request corrective action plans from lenders following reviews where findings and deficiencies are identified. Finally, SBA may request additional information of lenders under increased supervision. However, information requests for increased supervision (and corrective actions) tend to be lender specific.

⁸ Other Reviews may include, for example, Secondary Market loan reviews, reviews of lender self-assessments, or Agreed Upon Procedures Reviews performed by third-party practitioners or an independent office within the Lender to which SBA and the Lender agree, that follow a review protocol as prescribed or approved by SBA.

In general, for information that has already been provided by a 7(a) Lender, a CDC, or a Microloan Intermediary but is unchanged, a lender may certify that the information was already provided and is unchanged in lieu of resubmitting the information. The certification must also state to whom and on what date the information was provided to SBA.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control No.: 3245-0365.

Title: SBA Lender and Microloan Intermediary Reporting Requirements.

Description of Respondents: 7(a) Lenders (including SBA Supervised Lenders), Certified Development Companies, and Microloan Intermediaries.

Estimated Number of Respondents: 3541.

Estimated Annual Responses: 3541.

Estimated Annual Hour Burden: 13,195.

Shauniece Carter,
Interim Agency Clearance Officer.

[FR Doc. 2025-16766 Filed 8-29-25; 8:45 am]

BILLING CODE 8026-09-P